DEPARTMENT OF EDUCATION

34 CFR Part 668

RIN 1840-AD06

[Docket ID ED-2010-OPE-0012]

Program Integrity: Gainful Employment—Debt Measures; Correction

AGENCY: Department of Education.

ACTION: Final regulations; correction.

SUMMARY: On June 13, 2011, the Secretary of Education (Secretary) published a notice of final regulations in the Federal Register for Program Integrity: Gainful Employment—Debt Measures (Gainful Employment—Debt Measures) (76 FR 34386). In the preamble of the final regulations, we used the wrong data to calculate the percent of total variance in institutions' repayment rates that may be explained by race/ethnicity. Our intent was to use the data that included all minority students per institution. However, we mistakenly used the data for a subset of minority students per institution. We have now recalculated the total variance using the data that includes all minority students. Through this document, we correct, in the preamble of the Gainful Employment—Debt Measures final regulations, the errors resulting from this misapplication. We do not change the regression analysis model itself; we are using the same model with the appropriate data. Through this notice we also correct, in the preamble of the Gainful Employment—Debt Measures final regulations, our description of one component of the regression analysis. The preamble referred to use of an institutional variable measuring acceptance rates. This description was incorrect; in fact we used an institutional variable measuring retention rates. Correcting this language does not change the regression analysis model itself or the variance explained by the model. The text of the final regulations remains unchanged.

DATES: These regulations are effective July 1, 2012.

FOR FURTHER INFORMATION CONTACT: John Kolotos or David Bergeron for general information only. Telephone: (202) 502-7805. Any other questions or requests for information regarding these final regulations must be submitted to: GEQuestions@ed.gov.

If you use a telecommunications device for the deaf (TDD) or a text telephone (TTY), call the Federal Relay Service (FRS), toll free, at 1-(800) 877-8339.

SUPPLEMENTARY INFORMATION: We make the following corrections to the Gainful Employment—Debt Measures final regulations:

On page 34460, third column, we correct the phrase “(i.e., 72 percent for 4-year public institutions; 57 percent for 2-year nonprofit institutions; and 56 percent for 4-year nonprofit institutions).” to read “(i.e., 71 percent for 4-year public institutions; 64 percent for 2-year nonprofit institutions; and 61 percent for 4-year nonprofit institutions).”

On page 34461, first column, first paragraph, we correct the sentences “Similarly, in four of the nine models, the proportion of an institution's student body that was represented by students identified as racial/ethnic minorities was a statistically significant predictor. However, in no case did it explain more than approximately 13 percent of variance in repayment rates.” to read “Similarly, in eight of the nine models, the proportion of an institution's student body that was represented by students identified as racial/ethnic minorities was a statistically significant predictor. Across those models, it ranged from explaining 6.5 percent (4-year, for-profit institutions) to 37.8 percent (2-year, nonprofit institutions) of the variance in repayment rates.”

On page 34461, second column, first full paragraph, we correct the phrase “72 percent” to read “71 percent”.

On page 34461, second column, first full paragraph, we correct the sentence “However, when used as a sole predictor, the percentage of Pell Grant recipients was not a statistically significant predictor.” to read “An institution's percentage of minority students explained 29 percent of the variance in repayment rates when used as a sole predictor.”

On page 34461, second column, second full paragraph, we correct the phrase “56 percent” to read “61 percent”.

On page 34461, third column, carryover paragraph, we correct the phrase “less than 2 percent” to read “31 percent”.

On page 34461, third column, first full paragraph, we correct the phrase “22 percent” to read “27 percent”.

On page 34461, third column, first full paragraph, we correct the sentence “The racial/ethnic composition of an institution's student body was not a statistically significant predictor when used alone to model repayment rates, and, although the percentage of students receiving Pell Grants was predictive, it explained only 7 percent of the variance in repayment rates.” to read “Both the racial/ethnic composition of an institution's student body and the percentage of the students receiving Pell Grants were predictive when used alone in separate models, each explaining about 7 percent of the variance in repayment rates.”

On page 34461, third column, second full paragraph, we correct the phrase “13 percent” to read “17 percent”.

On page 34461, third column, second full paragraph, we correct the phrase “(around 1 percent and 3 percent, respectively)” to read “(around 8 percent and 3 percent, respectively)”.

On page 34462, first column, first paragraph, we correct the phrase “57 percent” to read “64 percent”.

On page 34462, first column, second paragraph, we correct the phrase “44 percent” to read “47 percent”.

On page 34462, first and second columns, we correct the sentence “Share of racial/ethnic minority enrollment was not a statistically significant predictor when used in its own model to predict repayment rates.” to read “Share of racial/ethnic minority enrollment explained approximately 19 percent of the variance in repayment rates when used alone in a model to predict repayment rates.”

On page 34462, second column, first full paragraph, we correct the sentences “Overall, our regression model was not statistically significant for less-than-2-year public institutions. When used as the only predictor of repayment rates, share of racial/ethnic minority enrollment was statistically significant, explaining approximately 4 percent of the potential variance. The share of students receiving Pell grants was not statistically significant in its stand alone model.” to read “Overall, none of our regression models was statistically significant for less-than-2-year public institutions.”

On page 34462, second column, second full paragraph, we correct the phrase “39 percent” to read “42 percent”.

On page 34462, second and third columns, we correct the sentence “Share of racial/ethnic minority enrollment was not a statistically significant predictor.” to read “Share of racial/ethnic minority enrollment explained approximately 11 percent of the potential variance.”

On page 34462, third column, first full paragraph, we correct the phrase “27 percent” to read “28 percent”.

On page 34462, third column, first full paragraph, we correct the sentence “The percentage of students identified as racial/ethnic minorities was not statistically significant.” to read “Share of racial/ethnic minority enrollment explained approximately 14 percent of the potential variance.”

On page 34462, third column, second full paragraph, we correct the phrase “1 percent” to read “20 percent”.

On page 34511, first column, paragraph (d), we correct the phrase “And, among 4-year institutions, a measure of institutional selectivity: An institutions acceptance rate (AcceptRate08)” to read “And, among 4-year institutions, measures of part-time (ptfall08cohortretained) and full-time (ftfall09cohortretained) retention.”

On page 34461, Table 4 is corrected to read as follows:

BILLING CODE 4000-01-P

On page 34464, Chart B is corrected to read as follows:

BILLING CODE 4000-01-C

Source: NSLDS and IPEDS.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: January 18, 2012.
Eduardo M. Ochoa,
Assistant Secretary for Postsecondary Education.

[FR Doc. 2012-1245 Filed 1-20-12; 8:45 am]

BILLING CODE 4000-01-P